DEPARTMENT OF COMMERCE

International Trade Administration

[A-588-847]

Notice of Final Results of Changed Circumstances Antidumping Duty Administrative Review, and Determination To Revoke the Order in Part: Certain Cut-to-Length Carbon-Quality Steel Plate Products From Japan

AGENCY: Import Administration, International Trade Administration, Department of Commerce.

ACTION: Notice of final results of changed circumstances antidumping duty administrative review and determination to revoke order in part.

SUMMARY: On January 10, 2003, the Department of Commerce (the Department) published a notice of initiation and preliminary results of a changed circumstances review with the intent to revoke, in part, the antidumping duty order on certain cut-to-length carbon-quality steel plate (CTL plate) products from Japan. See Notice of Initiation and Preliminary Results of Changed Circumstances Antidumping Duty Administrative Review, and Intent to Revoke Order in Part: Certain Cut-To-Length Carbon-Quality Steel Plate Products from Japan, 68 FR 1436 (January 10, 2003) (Initiation and Preliminary Results). We are now revoking this order, in part, with respect to the particular abrasion-resistant steel products meeting the specifications described below, based on the fact that domestic parties have expressed no interest in the continuation of the order with respect to these particular abrasion-resistant steel products. The Department will instruct the U.S. Customs Service (Customs) to proceed with liquidation, without regard to antidumping duties, of all unliquidated entries of the abrasion-resistant steel products meeting the specifications indicated below, entered or withdrawn from warehouse, for consumption on or after February 1, 2002, the day after the most recent time period for which the Department has issued assessment instructions to Customs (02/01/2001-01/31/2002).

EFFECTIVE DATE: March 3, 2003.

FOR FURTHER INFORMATION CONTACT: Jack K. Dulberger or Mark Manning, AD/CVD Enforcement, Group II, Office 4, Import Administration, International Trade Administration, U.S. Department of Commerce, 14th Street and Constitution Avenue, NW., Washington, DC 20230; telephone (202) 482-5505 and 482-5253, respectively.

SUPPLEMENTARY INFORMATION:

Background

On November 27, 2002, NKK Corporation (NKK) and Mitsubishi International Steel, Inc. (MISI) requested that the Department revoke the antidumping duty order on CTL plate from Japan with respect to two abrasion-resistant steel products produced by NKK: “NK-EH-360 (NK Everhard 360)” and “NK-EH-500 (NK Everhard 500).” See NKK's and MISI's letter to the Secretary, dated November 27, 2002 (Changed Circumstances Review Request). Specifically, NKK and MISI requested that the Department revoke the order with respect to imports meeting the following detailed product descriptions: (1) NK-EH-360: (a) Physical Properties: Thickness ranging from 6-50 mm, Brinell Hardness: 361 min.; (b) Heat Treatment: Controlled heat treatment; and (c) Chemical Composition (percent weight): C: 0.20 max., Si: 0.55 max., Mn: 1.60 max., P: 0.030 max., S: 0.030 max., Cr: 0.40 max., Ti: 0.005-0.020, B: 0.004 max; and (2) NK-EH-500: (a) Physical Properties: Thickness ranging from 6-50 mm, Brinell Hardness: 477 min.; (b) Heat Treatment: Controlled heat treatment; and (c) Chemical Composition (percent weight): C: 0.35 max., Si: 0.55 max., Mn: 1.60 max., P: 0.030 max., S: 0.030 max., Cr: 0.80 max., Ti: 0.005-0.020, B: 0.004 max. See Changed Circumstances Review Request at 2. The order with regard to imports of other CTL plate from Japan is not affected by this request.

On December 17 and 18, 2002, Bethlehem Steel Corporation, IPSCO Steel Inc., Nucor Corporation, and United States Steel Corporation, petitioners in the antidumping duty investigation of CTL plate from Japan (with the exception of Nucor Corporation), stated that they do not object to the exclusion of these two NKK products from the scope of the order. See Memorandum to the File from Jack Dulberger, Financial Analyst, “Telephone Discussions With Legal Counsel For Petitioners Regarding Continued No Interest,” dated December 19, 2002, which is on file in Import Administration's Central Records Unit, U.S. Department of Commerce, 14th Street and Constitution Avenue, NW., Room B-099, Washington, DC 20230. Subsequently, as noted above, we published the Initiation and Preliminary Results and gave interested parties an opportunity to comment on the Department's preliminary results of review. We received no comments from interested parties.

New Scope Based on This Changed Circumstances Review

The products covered by this antidumping duty order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of these orders are of rectangular, square, circular or other shape and of rectangular or non-rectangular cross-section where such non-rectangular cross-section is achieved subsequent to the rolling process (i.e., products which have been “worked after rolling”)—for example, products which have been beveled or rounded at the edges. Steel products that meet the noted physical characteristics that are painted, varnished or coated with plastic or other non-metallic substances are included within this scope. Also, specifically included in the scope of these orders are high strength, low alloy (HSLA) steels. HSLA steels are recognized as steels with micro-alloying levels of elements such as chromium, copper, niobium, titanium, vanadium, and molybdenum. Steel products to be included in this scope, regardless of Harmonized Tariff Schedule of the United States (HTSUS) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of these orders unless otherwise specifically excluded. The following products are specifically excluded from these orders: (1) Products clad, plated, or coated with metal, whether or not painted, varnished or coated with plastic or other non-metallic substances; (2) SAE grades (formerly AISI grades) of series 2300 and above; (3) products made to ASTM A710 and A736 or their proprietary equivalents; (4) abrasion-resistant steels, i.e., USS AR 400, USS AR 500, NK-EH-360 (NK Everhard 360), NK-EH-500 (NK Everhard 500). (NK-EH-360 has the following specifications: (a) Physical Properties: Thickness ranging from 6-50 mm, Brinell Hardness: 361 min.; (b) Heat Treatment: controlled heat treatment; and (c) Chemical Composition (percent weight): C: 0.20 max., Si: 0.55 max., Mn: 1.60 max., P: 0.030 max., S: 0.030 max., Cr: 0.40 max., Ti: 0.005-0.020, B: 0.004 max. NK-EH-500 has the following specifications: (a) Physical Properties: Thickness ranging from 6-50 mm, Brinell Hardness: 477 min.; (b) Heat Treatment: Controlled heat treatment; and (c) Chemical Composition (percent weight): C: 0.35 max., Si: 0.55 max., Mn: 1.60 max., P: 0.030 max., S: 0.030 max., Cr: 0.80 max., Ti: 0.005-0.020, B: 0.004 max); (5) products made to ASTM A202, A225, A514 grade S, A517 grade S, or their proprietary equivalents; (6) ball bearing steels; (7) tool steels; and (8) silicon manganese steel or silicon electric steel.

The merchandise subject to these orders is classified in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000. Although the HTSUS subheadings are provided for convenience and Customs purposes, the written description of the merchandise covered by these orders is dispositive.

Final Results of Review; Partial Revocation of Antidumping Duty Order

The affirmative statement of no interest by petitioners concerning abrasion-resistant steel products (i.e., NK-EH-360 and NK-EH-500), meeting the specifications described above, constitutes changed circumstances sufficient to warrant partial revocation of this order. Also, no party commented on the Initiation and Preliminary Results. Therefore, the Department is partially revoking the order on CTL plate from Japan with regard to abrasion-resistant steel products (i.e., NK-EH-360 and NK-EH-500) which meet the specifications detailed above, in accordance with sections 751(b) and (d) and 782(h) of the Tariff Act of 1930, as amended (the Act), and 19 CFR 351.216(d)(2002).

The Department will instruct Customs to proceed with liquidation, without regard to antidumping duties, of all unliquidated entries of abrasion-resistant steel products (i.e., NK-EH-360 and NK-EH-500) meeting the specifications indicated above, entered or withdrawn from warehouse, for consumption on or after February 1, 2002, the day after the most recent period for which the Department has issued assessment instructions to Customs (02/01/2001-01/31/2002). The Department will further instruct Customs to refund with interest any estimated duties collected with respect to unliquidated entries of abrasion-resistant steel products (i.e., NK-EH-360 and NK-EH-500) meeting the specifications indicated above, entered or withdrawn from warehouse, for consumption on or after February 1, 2002, in accordance with section 778 of the Act.

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This changed circumstances administrative review, partial revocation of the antidumping duty order and notice are in accordance with sections 751(b) and (d) and 782(h) of the Act and sections 351.216(e) and 351.222(g) of the Department's regulations.

Dated: February 21, 2003.
Faryar Shirzad,
Assistant Secretary for Import Administration.

[FR Doc. 03-4926 Filed 2-28-03; 8:45 am]

BILLING CODE 3510-DS-P